DEPARTMENT OF THE INTERIOR

Bureau of Indian Affairs

Notice of Intent To Prepare an Environmental Impact Statement for the Proposed Fee-to-Trust Transfer From the Oneida Indian Nation of New York to the Bureau of Indian Affairs of 17,370 Acres of Land in Oneida and Madison Counties, NY

AGENCY: Bureau of Indian Affairs, Interior.

ACTION: Notice.

SUMMARY: This notice advises the public that the Bureau of Indian Affairs (BIA), as lead agency, with the cooperation of the Oneida Indian Nation (Nation), intends to gather the information necessary for preparing an Environmental Impact Statement (EIS) for the taking into trust of 17,370 acres of land currently held in fee by the Nation. The purpose of the proposed action is to help ensure the Nation's cultural preservation, self-determination, self-sufficiency and economic independence as a federally recognized Indian tribe by securing the properties into its trust land base. This notice also announces public scoping meetings in Oneida and Madison Counties, New York, to identify potential issues and content for inclusion in the EIS.

DATES: Written comments on the scope of the EIS or implementation of the proposal must arrive by January 23, 2006.

The public scoping meetings will be held January 10, 2006, and January 11, 2006, from 6:30 to 9:30 p.m., or until the last public comment is received.

ADDRESSES: You may mail, hand carry or telefax written comments to Franklin Keel, Regional Director, Eastern Regional Office, Bureau of Indian Affairs, 545 Marriott Drive, Suite 700, Nashville, Tennessee 37214, Telefax (615) 564-6701. Please include your name, return address and the caption, “DEIS Scoping Comments, Oneida Indian Nation of New York Trust Acquisition Project,” on the first page of your written comments.

The January 10, 2006, public scoping meeting will be held in Oneida County at Vernon-Verona-Sherrill High School, 5275 State Route 31, Verona, New York 13478. The January 11, 2006, meeting will be held in Madison County at Oneida High School, 560 Seneca Street, Oneida, New York 13421.

Additional information concerning the trust land application will be available for public review online at http://www.oneidanationtrust.net and at the following locations during regular business hours, Monday through Friday, except holidays: Oneida Nation Annex Building, 579A Main Street, Oneida, New York 13421 (business hours: 10 a.m. to 4 p.m.); Oneida City Hall, 109 N. Main Street, Downstairs Basement Room, Oneida, New York 13421; and Town of Verona Town Hall, 6600 Germany Road, Back Conference Room, Durhamville, New York 13054.

FOR FURTHER INFORMATION CONTACT: Kurt G. Chandler, (615) 564-6832.

SUPPLEMENTARY INFORMATION: The EIS will assess the environmental consequences of BIA approval of the proposed transfer of 17,370 acres, in several non-contiguous parcels currently held in fee by the Nation in Oneida and Madison Counties, New York, into trust status for the benefit of the Nation. The parcels being considered for the fee-to-trust transfer include gaming and resort properties, including the Turning Stone Casino resort in Verona, New York, housing for Nation members, health care facilities, government offices, commercial enterprises such as marinas, service stations and convenience stores, vacant and undeveloped lands and lands used for traditional Iroquois agriculture, for livestock and for hunting and fishing.

The EIS will analyze all pertinent environmental, social and economic attributes of the affected environment and potential environmental consequences of taking the lands into trust. The BIA has so far identified infrastructure (including schools), socioeconomics (including taxes, employment, income, population and housing) and cumulative effects as key issues for analysis in the EIS. The range of issues may be further expanded, based on comments received in response to this notice and at the public scoping meetings.

Public Comment Availability

Comments, including names and addresses of respondents, will be available for public review at all of the mailing addresses shown in the ADDRESSES section (except those for the public meetings) during regular business hours, 8 a.m. to 4:30 p.m. (unless otherwise shown), Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of Interior Manual (516 DM 1-6), and is in the exercise of authority delegated to the Principal Deputy Assistant Secretary—Indian Affairs by 209 DM 8.

Dated: December 16, 2005.
Michael D. Olsen,
Acting Principal Deputy Assistant Secretary—Indian Affairs.

[FR Doc. E5-7787 Filed 12-22-05; 8:45 am]

BILLING CODE 4310-02-P